FEDERAL COMMUNICATIONS COMMISSION

Notice of Public Information Collection(s) Being Reviewed by the Federal Communications Commission, Comments Requested

May 18, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 24, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-XXXX.

Title: Wireless Medical Telemetry Service (ET Docket 99-255).

Type of Review: New collection.

Respondents: Business or not for profit institutions.

Number of Respondents: 2500.

Estimated Hours Per Response: 4.

Frequency of Response: Recordkeeping; one time reporting requirement.

Estimated Total Annual Burden: 10,000 hours.

Total Annual Cost: $500,000.00.

Needs and Uses: The Commission adopted a Notice of Proposed Rule Making, to create a Wireless Medical Telemetry Service (“WMTS”) (ET Docket No. 99-255). If the WMTS were licensed by rule, there would be no record of which frequencies are used by each facility or device. This could result in interference if multiple parties located closely together attempted to use the same frequencies. Therefore, the Commission proposes the appointment of a frequency coordinator, who will maintain a database of all WMTS equipment in operation. All parties using equipment in the WMTS would be required to coordinate/register their operating frequency and other relevant technical operating parameters with a coordinator designated by the Commission. This proposal would assist WMTS users in avoiding interference.

Federal Communications Commission.
Magalie Roman Salas,
Secretary.

[FR Doc. 00-13037 Filed 5-23-00; 8:45 am]

BILLING CODE 6712-01-U